SMALL BUSINESS ADMINISTRATION

Public Federal Regulatory Enforcement Fairness Hearing; Region VIII Regulatory Fairness Board

The U.S. Small Business Administration (SBA) Region VIII Regulatory Fairness Board and the SBA Office of the National Ombudsman will hold a public hearing on Wednesday, July 27, 2005 at 8:30 a.m. The meeting will take place at the SBA Wyoming District Office, Dick Cheney Federal Building, 100 E. “B” Street, Casper, WY 82602, phone (307) 261-6556, to receive comments and testimony from small business owners, small government entities, and small non-profit organizations concerning regulatory enforcement and compliance actions taken by federal agencies.

Anyone wishing to attend or to make a presentation must contact Steven Lobdell in writing or by fax, in order to be put on the agenda. Steven Lobdell, District Counsel, SBA Wyoming District Office, Dick Cheney Federal Building, 100 E. “B” Street, Casper, WY 82602, phone (307) 261-6503, fax (307) 261-6535, e-mail: steven.lobdell@sba.gov.

For more information, see our Web site at http://www.sba.gov/ombudsman.

Matthew K. Becker,
Committee Management Officer.

[FR Doc. 05-13903 Filed 7-14-05; 8:45 am]

BILLING CODE 8025-01-P